NUCLEAR REGULATORY COMMISSION

10 CFR Part 72

[NRC-2019-0195]

RIN 3150-AK38

List of Approved Spent Fuel Storage Casks: NAC International MAGNASTOR® System, Certificate of Compliance No. 1031, Amendment No. 8

AGENCY: Nuclear Regulatory Commission.

ACTION: Direct final rule; confirmation of effective date.

SUMMARY: The U.S. Nuclear Regulatory Commission (NRC) is confirming the effective date of March 24, 2020, for the direct final rule that was published in the Federal Register on January 9, 2020. This direct final rule amended the NRC's spent fuel storage regulations by revising the “List of approved spent fuel storage casks” to include Amendment No. 8 to Certificate of Compliance No. 1031 for the NAC International, Inc. MAGNASTOR® System.

DATES: The effective date of March 24, 2020, for the direct final rule published January 9, 2020 (85 FR 1096), is confirmed.

ADDRESSES: Please refer to Docket ID NRC-2019-0195 when contacting the NRC about the availability of information for this action. You may obtain publicly-available information related to this action by any of the following methods:

• Federal Rulemaking Website: Go to https://www.regulations.gov and search for Docket ID NRC-2019-0195. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML19228A234. The final amendment to the certificate of compliance, final changes to the technical specifications, and final safety evaluation report can also be viewed in ADAMS under Accession No. ML20036E079.

• NRC's PDR: You may examine and purchase copies of public documents at the NRC's PDR, Room O1-F21, One White Flint North, 11555 Rockville Pike, Rockville, Maryland 20852.

FOR FURTHER INFORMATION CONTACT: Bernard White, Office of Nuclear Material Safety and Safeguards; telephone: 301-415-6577; email: Bernard.White@nrc.gov or Edward M. Lohr, Office of Nuclear Material Safety and Safeguards; telephone: 301-415-0253; email: Edward.Lohr@nrc.gov. Both are staff of the U.S. Nuclear Regulatory Commission, Washington, DC 20555-0001.

SUPPLEMENTARY INFORMATION: On January 9, 2020 (85 FR 1096), the NRC published a direct final rule amending § 72.214 of title 10 of the Code of Federal Regulations, “List of approved spent fuel storage casks” to include Amendment No. 8 to Certificate of Compliance No. 1031 for the NAC International, Inc. MAGNASTOR® System. Amendment No. 8 revised the technical specifications to delete Technical Specification A5.6 and revised the maximum pellet diameter in the technical specifications, Appendix B, Table B2-3, from 0.325 inches to 0.3255 inches for the CE16H1 hybrid fuel assembly, which includes Combustion Engineering 16 x 16 fuel assemblies.

In the direct final rule, the NRC stated that if no significant adverse comments were received, the direct final rule would become effective on March 24, 2020. The NRC did not receive any comments on the direct final rule. Therefore, this direct final rule will become effective as scheduled.

Dated at Rockville, Maryland, this 14th day of February 2020.
For the Nuclear Regulatory Commission.
Cindy K. Bladey,
Chief, Regulatory Analysis and Rulemaking Support Branch, Division of Rulemaking, Envionmental and Financial Support, Office of Nuclear Material Safety and Safeguards.

[FR Doc. 2020-03947 Filed 3-4-20; 8:45 am]

BILLING CODE 7590-01-P